DEPARTMENT OF HEALTH AND HUMAN SERVICES

President's Advisory Council for Faith-Based and Neighborhood Partnerships

In accordance with section 10(a)(2) of the Federal Advisory Committee Act (Pub. L. 92-463), the President's Advisory Council for Faith-Based and Neighborhood Partnerships announces the following meeting:

Name: President's Advisory Council for Faith-Based and Neighborhood Partnerships Council Meeting.

Time and Date: Tuesday, February 9th, Times TBD.

Place: Meeting will be held in person at the White House Conference Center, The White House, Washington, DC. Please contact Mara Vanderslice for information on times and to RSVP to attend at meeting: mvanderslice@who.eop.gov.

Status: Open to the public, limited only by the space available. Conference call line will be available.

Purpose: The Council brings together leaders and experts in fields related to the work of faith-based and neighborhood organizations in order to: Identify best practices and successful modes of delivering social services; evaluate the need for improvements in the implementation and coordination of public policies relating to faith-based and other neighborhood organizations; and make recommendations for changes in policies, programs, and practices.

Contact Person for Additional Information: Mara Vanderslice at mvanderslice@who.eop.gov.

Supplementary Information: Please contact Mara Vanderslice for more information about how to attend the meeting.

Agenda: Topics to be discussed include presentation of final Council report.

Dated: January 24, 2010.
Jamison Citron,
Special Assistant.

[FR Doc. 2010-2187 Filed 2-1-10; 8:45 am]

BILLING CODE 4154-07-P